DEPARTMENT OF THE INTERIOR

Bureau of Land Management

[CACA-449834; L51010000.ER0000 LVRWB09B3160 LLCAD09000]

Notice of Availability of the Record of Decision for Southern California Edison's Eldorado Ivanpah Transmission Project

AGENCY: Bureau of Land Management, Interior.

ACTION: Notice of availability.

SUMMARY: The Bureau of Land Management (BLM) announces the availability of the Record of Decision (ROD) for the Eldorado Ivanpah Transmission Project (EITP) located in San Bernardino County, California, and Clark County, Nevada. The BLM Needles Field Manager signed the ROD on May 19, 2011, which constitutes the final decision of the BLM.

ADDRESSES: Copies of the ROD have been sent to affected Federal, state, and local government agencies and to other stakeholders and are available at the BLM's Needles Field Office, 1303 South Highway 95, Needles, California 92363 or at the following Web site: http://www.blm.gov/ca/st/en/prog/energy/fasttrack/Eldorado_Ivanpah/fedstatus.html.

FOR FURTHER INFORMATION CONTACT: Tom Hurshman, Project Manager, telephone: (970) 240-5345; address: 2465 South Townsend Avenue, Montrose, Colorado 81401; or e-mail: caeitp@blm.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Southern California Edison (SCE) filed an application under Title V of the Federal Land Policy and Management Act (43 U.S.C. 1761) (FLPMA) for a right-of-way (ROW) authorization on BLM managed lands to upgrade and replace an existing 115-kilovolt (kV) transmission line on public lands with a new double circuit 230-kV transmission line in compliance with FLPMA, BLM Right of Way (ROW) regulations, and other applicable Federal laws. The upgraded transmission line would extend approximately 35 miles from southern Clark County, Nevada, into northeastern San Bernardino County, California. About 28 miles of the project would be in Nevada and about 7 miles of the project would be in California. The project also includes a new Ivanpah substation in California near Primm, Nevada, which would serve as a connector hub for solar energy generated in the Ivanpah Valley area. A fiber optics telecommunications cable will be located on the new transmission towers and an additional fiber optics pathway ROW is also approved. The EITP ROW grant will impact approximately 480 acres during construction.

The BLM conducted a joint environmental review of EITP with the California Public Utilities Commission (CPUC). A Notice of Availability for a joint Final Environmental Impact Statement (EIS)/Environmental Impact Report (EIR) was published in the Federal Register by the BLM on December 21, 2010. The CPUC published a final decision on December 27, 2010, approving the Final EIS/EIR Environmentally Preferred Route and issued a Certificate of Public Convenience and Necessity (CPNC). The CPNC included all recommended mitigation measures from the Final EIS/EIR. The BLM's Preferred Alternative is the same as the CPUC Environmentally Preferred Route and was selected in the ROD. The BLM has adopted all mitigation measures recommended in the Final EIS/EIR. The project area is managed by the BLM in accordance with the California Desert Conservation Area Plan and the Las Vegas Field Office Resource Management Plan. The Preferred Alternative is consistent with the California Desert Conservation Area Plan and the Las Vegas Field Office Resource Management Plan.

Any party adversely affected by this decision may appeal within 30 days of the date of the ROD pursuant to 43 CFR part 4, subpart E. The appeal should state the specific portions of the decision that are being appealed. The appeal must be filed with the Needles Field Manager at the above listed address. According to regulation, BLM decisions issued under 43 CFR part 2800 are and remain in effect pending appeal (43 CFR 2801.10(b)). Please consult the appropriate regulations (43 CFR part 4, subpart E) for further requirements.

Authority: 40 CFR 1506.6.

Thomas Pogacnik,
Deputy State Director.

[FR Doc. 2011-12992 Filed 5-25-11; 8:45 am]

BILLING CODE 4310-40-P